DEPARTMENT OF LABOR

Employment and Training Administration

[TA-W-40,607 and TA-W-40,607A]

Xerox Corporation, Soho Division, Small Office/Home Office Division, Xerox Inkjet Focus Factory, Canandaigua, NY and Farmington, NY; Notice of Termination of Investigation

Pursuant to section 221 of the Trade Act of 1974, an investigation was initiated on January 22, 2002 in response to a worker petition which was filed by UNITE on behalf of workers at Xerox Corporation, Soho Division, Small Office/Home Office Division, Xerox Inkjet Focus Factory, located in Canandaigua and Farmington, New York.

The petitioning group of workers is subject to an ongoing investigation for which a determination has not yet been issued (TA-W-40,405). Consequently, further investigation in this case would serve no purpose, and the investigation has been terminated.

Signed in Washington, DC this 14th day of February 2002.
Linda G. Poole,
Certifying Officer, Division of Trade Adjustment Assistance.

[FR Doc. 02-4728 Filed 2-27-02; 8:45 am]

BILLING CODE 4510-30-M